ENVIRONMENTAL PROTECTION AGENCY

[EPA-HQ-OPPT-2017-0327; FRL-9963-57]

Scopes of the Risk Evaluations To Be Conducted for the First Ten Chemical Substances Under the Toxic Substances Control Act; Notice of Availability

AGENCY: Environmental Protection Agency (EPA).

ACTION: Notice.

SUMMARY: As required by the Toxic Substances Control Act (TSCA), which was amended by the Frank R. Lautenberg Chemical Safety for the 21st Century Act in June 2016, EPA is announcing the availability of the scope documents for the risk evaluations to be conducted for the first ten (10) chemical substances. Each scope includes the hazards, exposures, conditions of use, and the potentially exposed or susceptible subpopulations the EPA expects to consider in conducting the risk evaluation. EPA is also re-opening existing dockets for the first 10 chemicals to allow for the public to provide additional data or information that could be useful to the Agency in conducting problem formulation, the next step in the process of conducting the risk evaluations for these chemicals.

FOR FURTHER INFORMATION CONTACT:

For technical information contact: Christina Motilall, Risk Assessment Division, Office of Pollution Prevention and Toxics, Environmental Protection Agency, 1200 Pennsylvania Ave. NW., Washington, DC 20460-0001; telephone number: (202) 564-1287; email address: motilall.christina@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

You may be potentially affected by this action if you manufacture (defined under TSCA to include import), process, distribute in commerce, use or dispose of any of the ten chemical substances identified in this document for risk evaluation. This action may be of particular interest to entities that are regulated under TSCA (e.g., entities identified under North American Industrial Classification System (NAICS) codes 325 and 324110, among others). Since other entities may also be interested, the Agency has not attempted to describe all the specific entities and corresponding NAICS codes for entities that may be interested in or affected by this action.

B. How can I get copies of this document and other related information?

The docket for this action, identified by docket identification (ID) number EPA-HQ-OPPT-2017-0327, is available at http://www.regulations.gov or at the Office of Pollution Prevention and Toxics Docket (OPPT Docket), Environmental Protection Agency Docket Center (EPA/DC), West William Jefferson Clinton Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

C. What is the Agency's authority for taking this action?

This action directly implements TSCA section 6(b)(4)(D).

II. Background

EPA published a notice in the Federal Register of December 19, 2016 (81 FR 91927) (FRL-9956-47) of EPA's designation of 10 chemical substances for initial risk evaluations under TSCA. EPA's designation of the first ten chemical substances constituted the initiation of the risk evaluation process for each of these chemical substances, pursuant to the requirements of TSCA section 6(b)(4).

III. What action is the Agency taking?

In fulfillment of the requirements in TSCA section 6(b)(4)(D), EPA is publishing the scopes of the risk evaluations for the first 10 chemical substances designated to undergo risk evaluation to determine whether the chemical substances present an unreasonable risk of injury to human health or the environment under TSCA section 6(b)(4). The 10 chemical substances for which EPA is publishing the scopes of the risk evaluations are:

Chemical name | Docket ID No. | Agency contact
Asbestos | EPA-HQ-OPPT-2016-0736 | Robert Courtnage, courtnage.robert@epa.gov, 202-566-1081.
1-Bromopropane | EPA-HQ-OPPT-2016-0741 | Ana Corado, corado.ana@epa.gov, 202-564-0140.
1,4-Dioxane | EPA-HQ-OPPT-2016-0723 | Cindy Wheeler, wheeler.cindy@epa.gov, 202-566-0484.
Carbon Tetrachloride | EPA-HQ-OPPT-2016-0733 | Stephanie Jarmul, jarmul.stephanie@epa.gov, 202-564-6130.
Cyclic Aliphatic Bromide Cluster (HBCD) | EPA-HQ-OPPT-2016-0735 | Sue Slotnick, slotnick.sue@epa.gov, 202-566-1973.
Methylene Chloride | EPA-HQ-OPPT-2016-0742 | Ana Corado, corado.ana@epa.gov, 202-564-0140.
N-Methylpyrrolidone (NMP) | EPA-HQ-OPPT-2016-0743 | Ana Corado, corado.ana@epa.gov, 202-564-0140.
Pigment Violet 29 (Anthra[2,1,9-def:6,5,10-d′e′f′] diisoquinoline-1,3,8,10(2H,9H)-tetrone) | EPA-HQ-OPPT-2016-0725 | Hannah Braun, braun.hannah@epa.gov, 202-564-5614.
Tetrachloroethylene (also known as perchloroethylene) | EPA-HQ-OPPT-2016-0732 | Tyler Lloyd, lloyd.tyler@epa.gov, 202-564-4016.
Trichloroethylene (TCE) | EPA-HQ-OPPT-2016-0737 | Toni Krasnic, krasnic.toni@epa.gov, 202-564-0984.

The scope of the risk evaluation for each of these 10 chemical substances includes the hazards, exposures, conditions of use, and the potentially exposed or susceptible subpopulations the EPA expects to consider. To the extent possible, EPA has aligned these scope documents with the approach set forth in the risk evaluation process. The timeframe for development of these scope documents has been very compressed. The first 10 chemical substances were not subject to prioritization, the process through which EPA expects to collect and screen much of the relevant information about chemical substances that will be subject to the risk evaluation process. As a result, EPA had limited ability to process all the information gathered during scoping for the first 10 chemicals within the time provided in the statute for publication of the scopes after initiation of the risk evaluation process.

Hence, the scope documents for the first 10 chemicals are not as refined or specific as future scope documents are anticipated to be. In addition, there was insufficient time for EPA to provide an opportunity for comment on drafts of these scope documents, as it intends to do for future scope documents. For these reasons, EPA will publish and take public comment on a Problem Formulation document which will refine the current scope, as an additional interim step, prior to publication of the draft risk evaluations for the first 10 chemicals. The problem formulation documents are expected to be released within approximately 6 months of publication of the scope document. EPA invites the public to provide additional data or information that would be useful in conducting the problem formulation to the existing public docket for each of these chemicals.

Authority: 15 U.S.C. 2601 et seq.

Dated: June 22, 2017.
E. Scott Pruitt,
Administrator.

[FR Doc. 2017-14321 Filed 7-6-17; 8:45 am]

BILLING CODE 6560-50-P